DEPARTMENT OF THE INTERIOR

Bureau of Land Management

[ID-076-1220-BA]

Notice of Closure to Off-Highway Vehicle Use in the Bennett Hills

AGENCY: Bureau of Land Management, Interior.

ACTION: Notice to the public of closure on public lands administered by the Bureau of Land Management, Shoshone Field Office, Idaho.

SUMMARY: Notice is hereby given of the issuance of an emergency motorized closure in the Bennett Hills. Certain lands administered by the Bureau of Land Management (BLM) Shoshone Field Office are closed to off-highway vehicle (OHV) use and over-the-snow vehicles, with the exception of designated routes. A description of the closed area is provided below. The closure will remain in effect until such time as the authorized officer of the Shoshone Field Office determines the closure may be lifted, after the snowmelts in the spring and designated roads are dry. The closure is in accordance with 43 CFR 8364.1.

FOR FURTHER INFORMATION CONTACT: The BLM Shoshone Field Office, 400 West F. Street, Shoshone, ID 83352, telephone: (208) 732-7200.

SUPPLEMENTARY INFORMATION: An emergency motorized closure has gone into effect in the Bennett Hills. The motorized closure area consists of all BLM administered land within King Hill creek on the west, below 5,000 feet elevation on the north, Highway 93 on the east, and Highway 26 on the south. Designated routes that remain are identified on a detailed map available at the Shoshone Field Office. The BLM Shoshone Field Office coordinated with the Idaho Department of Fish and Game to identify crucial big game winter range that is now closed to motorized travel. Due to the harsh winter and deep snow pack, big game are congregating on historic winter range areas and experiencing additional stress. Throughout the Bennett Hills, motorized travel, including snowmobiles, is restricted to designated routes and county roads which enable motorized access to higher elevation areas, above 5,000 feet. These upper elevation areas are typically not used by big game animals in the winter and therefore can still be accessed and remain open to over-the-snow vehicles. The BLM advises public land users to avoid wildlife if encountered in these open areas.

The area of the closure includes BLM lands, specifically described wholly or partially:

Boise Meridian

T. 3 S., to T. 5 S and R. 11 E., to R. 18 E. The motorized closure area consists of all BLM administered land within these boundaries: King Hill creek on the west, below 5,000 feet elevation on the north, Highway 93 on the east, and Highway 26 on the south.

Detailed maps of the area closed to OHV and recreational use are available at the Shoshone Field Office at the address above.

Dated: January 13, 2004.
Bill Baker,
Shoshone Field Manager.

[FR Doc. 04-5093 Filed 3-5-04; 8:45 am]

BILLING CODE 4310-GG-P